DEPARTMENT OF COMMERCE

National Oceanic and Atmospheric Administration

RIN 0648-XA447

New England Fishery Management Council; Public Meeting

AGENCY: National Marine Fisheries Service (NMFS), National Oceanic and Atmospheric Administration (NOAA), Commerce.

ACTION: Notice; public meeting.

SUMMARY: The New England Fishery Management Council's (Council) Groundfish Committee, Plan Development Team and Advisory Panel will hold a workshop to consider actions affecting New England fisheries in the exclusive economic zone (EEZ).

DATES: The workshop will be held on Thursday, June 9, 2011 at 9 a.m.

ADDRESSES: The meeting will be held at the Crowne Plaza Boston North Shore, 50 Ferncroft Road, Danvers, MA 01923; telephone: (978) 777-2500; fax: (978) 750-7991.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the workshop's agenda are as follows:

The Groundfish Oversight Committee, in conjunction with the Groundfish Advisory Panel, Plan Development Team, and socio-economic experts of the Council's Scientific and Statistical Committee, will hold a meeting on the subject of accumulation limits for the Northeast Multispecies Fishery Management Plan (FMP). This meeting will be in a facilitated format and will not follow the Committee's standard decision-making process. The purpose of the workshop is to explore issues associated with accumulation limits and relevant fleet diversity measures. This group will not revisit the allocation structure for Potential Sector Contributions determined in Amendment 16 to the Northeast Multispecies FMP. Recommendations on a potential action to manage excessive shares in the fishery will be developed for the Council to consider at its June 2011 meeting.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: May 18, 2011.
Tracey L. Thompson,
Acting Director, Office of Sustainable Fisheries, National Marine Fisheries Service.

[FR Doc. 2011-12559 Filed 5-20-11; 8:45 am]

BILLING CODE 3510-22-P